DEPARTMENT OF COMMERCE

National Oceanic and Atmospheric Administration

[RTID 0648-XD986]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 152nd Scientific and Statistical Committee (SSC), Fishing Industry Advisory Committee (FIAC), Fishery Data Collection and Research Committee (FDCRC), Executive and Budget Standing Committee (SC), and its 199th Council meetings to take actions on fishery management issues in the Western Pacific Region.

DATES: The SSC meeting will be held between June 11 and June 13; FIAC on June 18, FDCRC and Executive Budget SC meetings on June 21; and the Council meeting between June 24 and 26, 2024. For specific times and agendas, see SUPPLEMENTARY INFORMATION.

ADDRESSES: The 152nd SSC, FIAC, FDCRC and Executive Budget SC meetings will be held as a hybrid meeting for members and the public, with a remote participation option available via Webex. In-person attendance will be hosted at the Council office, 1164 Bishop Street, Suite 1400, Honolulu, HI 96813.

The 199th Council meeting will be held as hybrid meeting for the Council members and the public, with a remote participation option available via Webex. In-person attendance will be hosted at the Ala Moana Hotel, Hibiscus Ballroom, 410 Atkinson Drive, Honolulu, HI 96814.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The 152nd SSC meeting will be held between 9 a.m. and 5 p.m. Hawaii standard time (HST) on June 11-12, and 9 a.m. and 1 p.m. on June 13, 2024. The FIAC will be held between 3 p.m. and 5 p.m. HST on June 18, 2024. The FDCRC will be held between 10 a.m. and 12 p.m. and the Executive and Budget SC meeting between 1 p.m. and 5 p.m. HST on June 21, 2024. The 199th Council meeting will be held between 9 a.m. and 4:30 p.m. HST on June 24 and between 9 a.m. and 5 p.m. HST on June 25 and 26, 2024. Public comment on Non-Agenda Items will be held between 4 p.m. and 4:30 p.m. HST on June 24, 2024. The Fishers Forum will be held between 6 p.m. and 9 p.m. HST on June 24, 2024.

Agenda items noted as “Final Action” refer to actions that may result in Council transmittal of a proposed fishery management plan, proposed plan amendment, or proposed regulations to the U.S. Secretary of Commerce, under sections 304 or 305 of the Magnuson-Stevens Fishery Conservation and Management Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 199th Council meeting will be available at www.wpcouncil.org. Written public comments on final action items at the 199th Council meeting should be received at the Council office by 5 p.m. HST, Thursday, June 20, 2024, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 152nd SSC Meeting

Tuesday, June 11, 2024, 9 a.m. to 5 p.m. HST

1. Introductions

2. Approval of Draft Agenda and Assignment of Rapporteurs

3. Status of the 151st SSC Meeting Recommendations

4. Pacific Islands Fisheries Science Center (PIFSC) Director Report

5. Program Planning and Research

A 2023 Annual Stock Assessment and Fishery Evaluation (SAFE) Report and Recommendations

A.1 Archipelagic and Pelagic Plan Team (PT) Report Highlights

A.2 Archipelagic PT Report Recommendations

A.3 Pelagic PT Report Recommendations

B Magnuson Steven Reauthorization Act (MSRA) 5-Year Research Priorities 2025-2029

C National SSC Meeting Preparations

D Public Comment

E SSC Discussion and Recommendations

6. Island Fisheries

A Main Hawaiian Islands (MHI) Deep-7 Bottomfish Fishery

A.1 P* and Social Economic Ecological Management (SEEM) Working Group Report

A.2 Setting Acceptable Biological Catch for 2024-2025 to 2026-2027 (Action Item)

B MHI Small Boat Fisheries Project Update

C Review of Uku Update Assessment Western Pacific Stock Assessment Review (WPSAR) Terms of Reference

D. Updates on the Guam Bottomfish Rebuilding Plan

E. Public Comment

F. SSC Discussion and Recommendations

Wednesday, June 12, 2024, 9 a.m. to 5 p.m. HST

7. Protected Species

A Shallow Set Longline (SSLL) Turtle Trip Limit Review Report

B Deep Set Longline (DSLL) Biological Opinion (BiOp) Implementation Working Group Report on Insular False Killer Whale Overlap Area Monitoring Requirement

C Public Comment

D SSC Discussion and Recommendation

8. Pelagic and International Fisheries

A. Electronic Monitoring Pre-Implementation Program Plan Review and Timeline

B. Characterizing Impacts of Cookie Cutter Shark Interactions in Hawaii Longline Fishery

C South Pacific Community (SPC) Climate Science for Ensuring Pacific Tuna Access

D International Fisheries

D.1 SPC Pre-Assessment Workshop

D.2 Outcomes From the Stakeholder Workshop for the North Pacific Striped Marlin Rebuilding Analysis.

E. Public Comment

F. SSC Discussion and Recommendation

Thursday, June 13, 2024, 9 a.m. to 1 p.m. HST

10. Other Business

A. September SSC Meetings Dates

11. Summary of SSC Recommendations to the Council

Agenda for the FIAC Meeting

Tuesday, June 18, 2024, 3 p.m. to 5 p.m. HST

1. Welcome and Introductions

2. Status Report on Previous FIAC Recommendations

3. Roundtable Update on Fishing/Market Issues/Impacts

4. International Trade and National Seafood Strategy

A. Update on National Seafood Strategy

B. Report on Workshop on Seafood Imports and Trade

5. Biological Opinion Implementation Working Group Reports

6. Hawaii Shallow-set Longline Fishery Trip Limit Review Report

7. Electronic Technologies Steering Committee Updates

8. Characterizing Cookie-Cutter Shark Depredation in Hawaii Longline Fisheries

9. Other Issues

10. Public Comment

11. Discussion and Recommendations

Agenda for FDCRC Meeting

Friday, June 21, 2024, 10 a.m. to 12 p.m. HST

1. Welcome and Introductions

2. Review of Agenda

3. Review of Data Improvements

A. Federal Data Collection Improvements and Needs

i. Creel Surveys

ii. Marine Recreational Information Program (MRIP)

iii. CatchIt, LogIt

B. American Samoa

i. Creel Survey Improvements

ii. Licensing and Mandatory Reporting

C. Commonwealth of the Northern Mariana Islands (CNMI)

i. Mandatory Reporting Regulations Implementation Plan

D. Guam

i. Data Sharing Agreements

E. Hawaii

i. Pacific States Marine Fisheries Commission Membership

4. Non-Commercial Data Collection

A. MRIP Regional Implementation Plan

B. Transition Plans

C. Outreach and Communications

D. MRIP Re-Envisioning

5. Discussion on Budget Status

A. Federal Funding

i. Interjursidictional Fisheries Act

ii. Sportsfish Restoration

iii. Western Pacific Fisheries Information Network

iv. Other

B. Funding Limitations on Territorial Staff

6. Public Comment

7. Discussion and Recommendations

8. Other Business

Agenda for the Executive and Budget SC Meeting

Friday, June 21, 2024, 1 p.m. to 5 p.m. HST

1. Introductions and Approval of Agenda

2. Financial Reports

3. Administrative Reports

A. Action Memo Item Tracking and Follow-Up

4. Council Family Changes

5. Meetings and Workshops

6. Report on the May Council Coordinating Committee (CCC) Meeting

A. Council Member Ongoing Development Attendees

7. Other Business

8. Public Comment

9. Discussion and Recommendations

Agenda for the 199th Council Meeting

Monday, June 24, 2024, 9 a.m. to 4:30 p.m. HST

1. Welcome and Introductions

2. Approval of the 199th Council Meeting Agenda

3. Approval of the 198th Council Meeting Minutes

4. Executive Director's Report

5. Agency Reports

A. NMFS

A.1. Pacific Islands Regional Office

A.2. PIFSC

B. NOAA Office of General Counsel Pacific Islands Section

C. Enforcement

C.1. U.S. Coast Guard

C.2. NOAA Office of Law Enforcement

C.3. NOAA Office of General Counsel Enforcement Section

D. U.S. State Department

E. U.S. Fish and Wildlife Service

F. Public Comment

G. Council Discussion and Action

6. Program Planning

A. U.S. Seafood and Trade Priorities

A.1. Seafood Import Monitoring Program

A.2. National Seafood Strategy

B. MSRA 5-Year Research Priorities 2025-2029

C. Status of Pacific Remote Island Area (PRIA) and Northwestern Hawaiian Islands (NWHI) Sanctuary Proposals

D. Council Coordination Committee Meeting Report

E. Regional Communications and Outreach Report

F. Advisory Group Report and Recommendations

F.1. Advisory Panels

F.2. Plan Teams

F.3. Education Committee

F.4. Social Science Planning Committee

F.5 FIAC

F.6 SSC

G. Public Comment

H. Council Discussion and Action

Monday, June 24, 2024, 4 p.m. to 4:30 p.m. HST

Public Comment on Non-Agenda Items

Monday, June 24, 2024, 6 p.m. to 9 p.m. HST

Fishers Forum—Where are the fish going?

Tuesday, June 25, 2024, 9 a.m. to 5 p.m. HST

7. American Samoa

A. Motu Lipoti

B. Department of Marine and Wildlife Resources Report

C. 2023 American Samoa Fishery Ecosystem Plan Annual SAFE Report

D. 2023 Pelagic Annual SAFE Report—American Samoa Module

E. Marine Conservation Plan 2024-2026

F. Advisory Group Report and Recommendations

F.1. American Samoa Advisory Panel

F.2. Archipelagic Plan Team

F.3. FIAC

F.4. SSC

G. Public Comment

H. Council Discussion and Action

8. Mariana Archipelago

A. Guam

A.1. Isla Informe

A.2. Department of Agriculture/Division of Aquatic and Wildlife Resources Report

A.3. 2023 Annual SAFE Report—Guam Module

A.4. Updates on the Guam Bottomfish Rebuilding Plan

B. CNMI

B.1. Arongol Falu

B.2. Department of Lands and Natural Resources/Division of Fish and Wildlife Report

B.3. 2023 Annual SAFE Report—CNMI Module

B.4. Commercial Bottomfish Permit and Reporting

C.1. Marianas Islands Advisory Panel

C.2. Archipelagic Plan Team

C.3. FIAC

C.4. SSC

D. Public Comment

E. Council Discussion and Action

9. Hawaii Archipelago and Pacific Remote Island Areas

A. Moku Pepa

B. Department of Land and Natural Resources/Division of Aquatic Resources Report

C. 2023 Hawaii Archipelago Fishery Ecosystem Plan Annual SAFE Report

D. MHI Deep 7 Bottomfish

D.1. Report of the P* and SEEM Working Group

D.2. Options for Specifying ACL for 2024-2027 (Initial Action)

E. Terms of Reference for Uku Update Stock Assessment

F. Hawaii Small-Boat Fisheries Project Update

G. Advisory Group Report and Recommendations

G.1. Hawaii Advisory Panel

G.2. FIAC

G.3. SSC

H. Public Comment

I. Council Discussion and Action

Wednesday, June 26, 2024, 9 a.m. to 5 p.m. HST

10. Protected Species

A. Overview of False Killer Whale Conservation and Management

B. SSLL Turtle Trip Limit Review Report

C. BiOp Implementation Working Group Report

C.1. Crew Training

C.2. Insular False Killer Whale Overlap Area Monitoring Requirement

D. Endangered Species Act (ESA) and Marine Mammal Protection Act (MMPA) Updates

E. Advisory Group Report and Recommendations

E.1. Advisory Panels

E.2. Plan Teams

E.3. FIAC

E.4. SSC

F. Public Comment

G. Council Discussion and Action

11. Pelagic and International

A. 2023 Pelagic and PRIA Annual SAFE Report

B. International Fisheries

B.1. U.S Stakeholder Engagement on South Pacific Albacore

B.2. North Pacific Striped Marlin Stock Status Under the Pacific Pelagic Fishery Ecosystem Plan

B.3. U.S. Stakeholder Engagement on North Pacific Striped Marline Rebuilding Plan

B.4. Western Central Pacific Fishery Commission Permanent Advisory Committee

C. Electronic Technologies Steering Committee Report

D. Advisory Group Report and Recommendations

D.1. Advisory Panels

D.2. Plan Teams

D.3. FIAC

D.4. SSC

E. Public Comment

F. Council Discussion and Action

12. Administrative Matters

A. Financial Reports

B. Administrative Reports

C. Council Family Changes

D. Meetings and Workshops

E. Executive and Budget SC Report

F. Public Comment

G. Council Discussion and Action

13. Other Business

Non-emergency issues not contained in this agenda may come before the Council for discussion and formal Council action during its 199th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 20, 2024.
Rey Israel Marquez,
Acting Deputy Director, Office of Sustainable Fisheries, National Marine Fisheries Service.

[FR Doc. 2024-11403 Filed 5-23-24; 8:45 am]

BILLING CODE 3510-22-P